FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 15, 2004.

A. Federal Reserve Bank of St. Louis (Randall C. Sumner, Vice President) 411 Locust Street, St. Louis, Missouri 63166-2034:

1. The Amy Golden McCay Children's Trust, Little Rock, Arkansas, with Amy Golden McCay as trustee, and the Alex Golden Children's Trust, Little Rock, Arkansas, with Alexander P. Golden IV as trustee, to retain their existing ownership of ACME Holding Company, Inc., Mulberry, Arkansas, and thereby become members of the Golden Family control group. The Golden Family control group consists of the aforementioned trusts, Amy Golden McCay, Alexander P. Golden IV, and Alexander P. Golden III, all of Little Rock, Arkansas.

Board of Governors of the Federal Reserve System, May 25, 2004.
Robert deV. Frierson,
Deputy Secretary of the Board.

[FR Doc. 04-12206 Filed 5-28-04; 8:45 am]

BILLING CODE 6210-01-S